DEPARTMENT OF JUSTICE

Notice of Lodging of Proposed Consent Decree Under the Comprehensive Environmental Response, Compensation, and Liability Act

On March 12, 2021, the Department of Justice and the State of California on behalf of the California Department of Toxic Substances Control (“DTSC”) lodged a proposed Consent Decree with the United States District Court for the Central District of California pertaining to environmental contamination at the Historic Stormwater Pathway South Operable Unit (“Southern Pathway OU,” also known as “OU6”) of the Montrose Chemical Corp. Superfund Site in Los Angeles County, California. This proposed Consent Decree was lodged in the case United States of America and State of California vs. Montrose Chemical Corp. of California et al., Civil Action No. 2:90-cv-03122 DOC (C.D. Cal.); it resolves certain of the claims in that case.

The proposed Consent Decree, titled in full “Partial Consent Decree (Montrose Superfund Site—Historic Stormwater Pathway South Operable Unit)”, resolves certain claims or potential claims under Sections 106 and 107 of the Comprehensive Environmental Response, Compensation, and Liability Act, 42 U.S.C. 9606, 9607, as well as certain potential state law claims, in connection with environmental contamination at the Southern Pathway OU. The proposed Consent Decree does not resolve the settling defendants' overall liability for environmental contamination at the Southern Pathway OU, but resolves their liability for the OU6 Remedial Investigation and Feasibility Study and certain past and future response costs described below. The settling defendants are TFCF America, Inc.; Bayer CropScience Inc.; Montrose Chemical Corporation of California; and Stauffer Management Company LLC. The Consent Decree requires the settling defendants to perform the Remedial Investigation and Feasibility Study of contamination at the Southern Pathway OU, and to make a payment of $3,750,000.00 toward the United States' unreimbursed Southern Pathway OU past costs and certain sitewide “OU-00” costs, and a payment of $250,000.00 towards DTSC's Southern Pathway OU past costs. The proposed Consent Decree also requires the settling defendants to pay the United States' and DTSC's future response costs for overseeing the work the settling defendants will be performing pursuant to the Consent Decree.

The publication of this notice opens a period for public comment on the Consent Decree. Comments should be addressed to the Assistant Attorney General, Environment and Natural Resources Division, and should refer to United States of America and State of California vs. Montrose Chemical Corp. of California et al., D.J. Ref. No. 90-11-3-511. All comments must be submitted no later than thirty (30) days after the publication date of this notice. Comments may be submitted either by email or by mail:

To submit comments: | Send them to:
By email | pubcomment-ees.enrd@usdoj.gov.
By mail | Assistant Attorney General, U.S. DOJ—ENRD P.O. Box 7611, Washington, DC 20044-7611.

During the public comment period, the Consent Decree may be examined and downloaded at this Justice Department website: https://www.usdoj.gov/enrd/consent-decrees. We will provide a paper copy of the Consent Decree upon written request and payment of reproduction costs. Please mail your request and payment to:

Consent Decree Library, U.S. DOJ—ENRD, P.O. Box 7611, Washington, DC 20044-7611.

Please enclose a check or money order for $34.00 (25 cents per page reproduction cost) for the Consent Decree, payable to the United States Treasury. For a paper copy without the appendices and signature pages, the cost is $21.50.

Lori Jonas,
Assistant Section Chief, Environmental Enforcement Section, Environment and Natural Resources Division.

[FR Doc. 2021-05629 Filed 3-17-21; 8:45 am]

BILLING CODE 4410-15-P